DEPARTMENT OF ENERGY

Federal Energy Regulatory Commission

[Docket No. RP01-516-000]

Honeoye Storage Corporation; Notice of Tariff Filing

August 30, 2001.

Take notice that on August 24, 2001, Honeoye Storage Corporation (Honeoye) tendered for filing as part of its FERC Gas Tariff, Second Revised Volume No. 1, the following tariff sheets proposed to be effective October 1, 2001:

First Revised Title Page

Second Revised Sheet No. 25

Take further notice that Honeoye tendered for filing as part of its FERC Gas Tariff, Original Volume No.1A, the following tariff sheets proposed to be effective October 1, 2001:

First Revised Sheets No. 1

First Revised Sheets No. 2

First Revised Sheets No. 3

First Revised Sheets No. 9

First Revised Sheets No. 21

First Revised Sheets No. 25

First Revised Sheets No. 70

First Revised Sheets No. 75

First Revised Sheets No. 105

First Revised Sheets No. 108

First Revised Sheets No. 129

First Revised Sheets No. 130

First Revised Sheets No. 135

First Revised Sheets No. 136

First Revised Sheets No. 137

Honeoye states that one of the purposes of this filing is to amend its Second Revised Volume No. 1 tariff to change Honeoye's administrative mailing address.

Honeoye states that the second purpose of this filing is to amend its Original Volume No. 1A tariff to: (1) Change Honeoye's administrative mailing address; (2) redesignate the title of its open access Gas Tariff where necessary from Original Volume No. 2 to Original Volume No. 1A; and (3) include a generic waiver of the “shipper-must-have-title” rule and a general statement that it will only transport for its customers on off-system pipeline capacity pursuant to its Commission-approved tariff and rates.

Honeoye states that copies of its filing have been mailed to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22333 Filed 9-5-01; 8:45 am]

BILLING CODE 6717-01-P